FEDERAL COMMUNICATIONS COMMISSION

Notice of Public Information Collection(s) Being Submitted to OMB for Review and Approval

June 28, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 13, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0027.

Title: Application for Construction Permit for Commercial Broadcast Station, FCC Form 301.

Form Number: FCC 301.

Type of Review: Extension of a currently approved collection.

Respondents: Business and other for-profit entities; Not-for-profit institutions.

Number of Respondents: 2,570.

Estimated Time per Response: 2 to 4 hours.

Frequency of Response: On occasion reporting requirements; Third party disclosure.

Total Annual Burden: 5,827 hours.

Total Annual Costs: $30,811,550.

Privacy Impact Assessment: No impact(s).

Needs and Uses: On September 3, 2003, the United States Circuit Court of Appeals for the Third Circuit issued an Order staying the effectiveness of the new media ownership rules adopted by the Commission on June 2, 2003. (Report and Order, MB Docket 02-277 and MM Docket 01-235, 01-237, and 00-244, and Notice of Proposed Rulemaking, In the Matter of 2020 Biennial Regulatory Review—Review of the Commission's Broadcast Ownership Rules and Other Rules Adopted Pursuant to section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

Licensees/permittees use FCC Form 301 to apply for authority to construct a new commercial AM, FM, or TV broadcast station or to make changes to the existing facilities of such a station. In addition, FM licensees/permittees may use Form 301 to request upgrades on adjacent and co-channels, modifications to adjacent channels of the same class, and downgrades to adjacent channels without first submitting a petition for rulemaking. Applicants using this “one step” process must demonstrate that a suitable site exists, which complies with allotment standards, i.e., minimal distance separation and city-grade coverage, and is suitable for tower construction. Commercial broadcast licensees must file Form 301 for a construction permit to receive authorization to commence DTV operation. This application may be filed anytime after receiving the initial DTV allotment but must be filed before mid-point in a particular applicant's required construction period. The Commission will consider these applications as minor changes in facilities. Applications will not have to supply full legal or financial qualification information. Under 47 CFR 73.3580, applicants must publish a notice in a local paper of general circulation when filing for new or major changes in facilities. A copy of the public notice is to be kept with the application in the station's public file.

OMB Control Number: 3060-0031.

Title: Application for Consent to Assignment of Broadcast Station Construction Permit or License.

Form Number: 314.

Type of Review: Extension of a currently approved collection.

Respondents: Business or other for-profit entities; and Not-for-profit institutions.

Number of Respondents: 1,591.

Estimated Time per Response: 1 to 2 hours.

Frequency of Response: On occasion reporting requirements; Third party disclosure.

Total Annual Burden: 2,547 hours.

Total Annual Costs: $12,356,203.

Privacy Impact Assessment: No impact(s).

Needs and Uses: On September 3, 2003, the United States Court of Appeals for the Third Circuit issued an Order staying the effectiveness of the new media ownership rules adopted by the Commission on June 2, 2003. (Report and Order, MB Docket 02-2777 and MM Docket 01-235, 01-317, and 00-244, and Notice of Proposed Rulemaking, In the Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

Applicants must file FCC Form 314 and applicable exhibits/explanations when applying for consent to assignment of an AM, FM, or TV broadcast station construction permit or license. In addition, the applicant must notify the Commission when an approved assignment of a broadcast station construction permit or license has been consummated.

Under 47 CFR 73.3580, applicants must publish a notice in a local paper of general circulation when filing for assignment of all licenses/permits. A copy of the notice is to be kept with the application in the station's public file. Additionally, an applicant for assignment of license must broadcast the same notice from the station in the second week immediately following the tendering for the application filing. On April 4, 2000, the Commission adopted a Report and Order in MM Docket 95-31, In the Matter of Reexamination of the Comparative Standards for Noncommercial Educational Applicants. This Report and Order adopted new procedures to select among competing applicants for noncommercial educational (NCE) broadcast channels. The new procedures use points to compare objective characteristics whenever there are competing applications for full-service radio or television channels reserved for NCE use. The new procedure established a four-year holding period of on-air operations for license approved as a result of evaluations in a point system. FCC Form 314 has been revised to reflect the new policy and to require stations authorized under the point system, which have not operated for a four-year period, to submit with their applications an exhibit demonstrating compliance with 47 CFR 73.7005. The FCC staff use the data to determine whether the applicants meet basic statutory requirements to become a Commission licensee/permittee and to assure that the public interest is served by grant of the application.

OMB Control Number: 3060-0032.

Title: Application for Consent to Transfer Control of Entity Holding Broadcast Station Construction Permit or License, FCC Form 315.

Form Number: 315.

Type of Review: Extension of a currently approved collection.

Respondents: Business or other for-profit entities; and Not-for-profit institutions.

Number of Respondents: 1,591.

Estimated Time per Response: 1 to 2 hours.

Frequency of Response: On occasion reporting requirements; Third party disclosure.

Total Annual Burden: 2,547 hours.

Total Annual Costs: $12,356,203.

Privacy Impact Assessment: No impact(s).

Needs and Uses: On September 3, 2003, the United States Court of Appeals for the Third Circuit issues an Order staying the effectiveness of the new media ownership rules adopted by the Commission on June 2, 2003. (Report and Order, MB Docket 02-2777 and MM Docket 01-235, 01-317, and 00-244, and Notice of Proposed Rulemaking, In the Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

Applicants must file FCC Form 315 and applicable exhibits/explanations when applying for transfer of control of a corporation holding an AM, FM, or TV broadcast station construction permit or license. In addition, the applicant must notify the Commission when an approved transfer of control of a broadcast station construction permit or license has been consummated.

Under 47 CFR 73.3580, applicants must publish a notice in a local paper of general circulation when filing all applications for transfer of control any license/permit. A copy of the public notice is to be kept with the application in the station's public file. Additionally, an applicant for transfer of control of license must broadcast the same notice from the station in the second week immediately following the tendering for the application filing.

On April 4, 2000, the Commission adopted a Report and Order in MM Docket 95-31, In the Matter of Reexamination of the Comparative Standards for Noncommercial Educational Applicants. This Report and Order adopted new procedures to select among competing applicants for noncommercial educational (NCE) broadcast channels. The new procedures use points to compare objective characteristics whenever there are competing applications for full-service radio or television channels reserved for NCE use. The new procedure established a four-year holding period of on-air operations for license approved as a result of evaluations in a point system. The FCC Form 315 was revised to reflect the new policy and to require stations authorized under the point system, which have not operated for a four-year period, to submit with their applications an exhibit demonstrating compliance with 47 CFR 73.7005. The FCC staff use the data to determine whether the applicants meet basic statutory requirements to become a Commission licensee/permittee and to assure that the public interest is served by grant of the application.

Federal Communications Commission.
Marlene H. Dortch,
Secretary.

[FR Doc. 04-15865 Filed 7-13-04; 8:45 am]

BILLING CODE 6712-01-P